DEPARTMENT OF COMMERCE

International Trade Administration

[A-337-803]

Fresh Atlantic Salmon from Chile: Final Results of Antidumping Duty Changed Circumstances Review, Revocation of Order, and Rescission of Administrative Review

AGENCY: Import Administration, International Trade Administration, Department of Commerce.

ACTION: Final results of antidumping duty changed circumstances review; revocation of order; and rescission of administrative review.

SUMMARY: On May 23, 2003, the Department of Commerce (the Department) published a notice of initiation of a changed circumstances review with the intent to revoke the antidumping order on fresh Atlantic salmon from Chile. See Notice of Initiation of Antidumping Duty Changed Circumstances Review: Fresh Atlantic Salmon from Chile, 68 FR 28196 (May 23, 2003) (Initiation Notice). On July 1, 2003, based on the fact that domestic parties have expressed no interest in the continuation of the order, the Department published the preliminary results of the changed circumstances review and preliminarily revoked this order, retroactive to July 1, 2001, with respect to entries of fresh Atlantic salmon from Chile. See Notice of Preliminary Results of Antidumping Duty Changed Circumstances Review: Fresh Atlantic Salmon from Chile, 68 FR 39058 (July 1, 2003) (Preliminary Results). We gave interested parties an opportunity to comment on both the Initiation Notice and the Preliminary Results, but received no comments. Therefore, the Department hereby revokes the order on fresh Atlantic salmon from Chile for all entries that were entered, or withdrawn from the warehouse, on or after July 1, 2001, the first day after the last completed administrative review in this proceeding. As the result of the revocation of the order, the Department also is rescinding the on-going administrative review of fresh Atlantic salmon from Chile covering the period July 1, 2001, through June 30, 2002.

EFFECTIVE DATE: July 25, 2003.

FOR FURTHER INFORMATION CONTACT: Keith Nickerson or Constance Handley, at (202) 482-3813 or (202) 482-0631, respectively; AD/CVD Enforcement Office 5, Group II, Import Administration, International Trade Administration, U.S. Department of Commerce, 14th Street & Constitution Avenue, NW, Washington, DC 20230.

SUPPLEMENTARY INFORMATION:

Background

On July 30, 1998, the Department issued an antidumping duty (AD) order on fresh Atlantic salmon from Chile. See Notice of Amended Final Determination of Sales at Less Than Fair Value and Antidumping Duty Order: Fresh Atlantic Salmon from Chile, 63 FR 40699

(July 30, 1998). On July 1, 2002, the Department issued a notice of opportunity to request the fourth administrative review of this order. See Antidumping or Countervailing Duty Order, Finding, or Suspended Investigation; Opportunity to Request Administrative Review, 67 FR 44172 (July 1, 2002).

On July 31, 2002, in accordance with 19 CFR 351.213(b)(2003), L.R. Enterprises, Inc. (L.R. Enterprises) requested a review of 90 producers/exporters of fresh Atlantic salmon. Twelve respondents also requested reviews of themselves. On August 27, 2002, the Department published the notice of initiation of this AD administrative review, covering the period July 1, 2001, through June 30, 2002. See Initiation of Antidumping and Countervailing Duty Administrative Reviews and Requests for Revocation in Part, 67 FR 55000 (August 27, 2002). L.R. Enterprises subsequently withdrew its request for review of all but 13 of these companies. For a detailed discussion of L.R. Enterprises' withdrawals, as well as a listing of which respondents requested reviews, see Notice of Partial Rescission of Antidumping Duty Administrative Review: Fresh Atlantic Salmon from Chile, 67 FR 76378 (December 12, 2002).

On April 29, 2003, L.R. Enterprises withdrew its request that the Department conduct reviews of the remaining 13 producers/exporters of fresh Atlantic salmon from Chile. Furthermore, L.R. Enterprises stated that it had no interest in maintaining the AD order. Subsequently, by letters dated April 29, 2003, five U.S. producers of fresh Atlantic salmon including Heritage Salmon Inc., Maine Nordic Salmon, Stolt Sea Farms Inc., Cypress Island Inc., and Atlantic Salmon of Maine, requested that the Department initiate a changed circumstances review for the purpose of revoking the AD order on the subject merchandise. On May 2 and 7, 2003, L. R. Enterprises and Trumpet Island Salmon Farm Inc., respectively, submitted their requests to the Department for the initiation of a changed circumstances review for the purpose of revoking the AD order. All parties requested that the Department grant revocation of the AD order retroactive to July 1, 2001, the first day of the period of review covered by the on-going fourth administrative review.

On May 23, 2003, the Department published a notice of initiation of a changed circumstances review with the intent to revoke the AD order on fresh Atlantic salmon from Chile. In the Initiation Notice, we indicated that interested parties could submit comments for consideration in the Department's preliminary results no later than 20 days after publication of the initiation of the review, and submit rebuttal to those comments no later than 10 days following the submission of comments. We did not receive any comments on the Initiation Notice.

On July 1, 2003, the Department published the preliminary results of the changed circumstances review and preliminarily revoked this order with respect to all unliquidated entries for all entries of fresh Atlantic salmon from Chile that were entered, or withdrawn from the warehouse, on or after July 1, 2001, based on the fact that domestic parties have expressed no interest in continuation of the order. In addition, we stated our intention to rescind the fourth administrative review. In the Preliminary Results, we stated that interested parties could submit case briefs to the Department no later than 10 days after the publication of the Preliminary Results notice in the Federal Register, and submit rebuttal briefs, limited to the issues raised in those case briefs, five days subsequent to this due date. We did not receive any comments on the Preliminary Results.

Scope of the Order

The product covered by this order is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the order. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out.

Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers.

The merchandise subject to this order is classifiable as item numbers 0302.12.0003 and 0304.10.4093 of the Harmonized Tariff Schedule of the United States (HTSUS). Although the HTSUS statistical reporting numbers are provided for convenience and customs purposes, the written description of the merchandise is dispositive.

Final Results of Changed Circumstances Review and Revocation of the AD Order

Pursuant to sections 751(d)(1) and 782(h)(2) of the Tariff Act of 1930, as amended (the Act), the Department may revoke an antidumping or countervailing duty order, in whole or in part, based on a review under section 751(b) of the Act (i.e., a changed circumstances review). Section 751(b)(1) of the Act requires a changed circumstances review to be conducted upon receipt of a request which shows changed circumstances sufficient to warrant review of a final affirmative antidumping determination. The Department's regulations at 19 CFR 351.222(g)(2) provide that the Department will conduct a changed circumstances review under 19 CFR 351.216 if the Secretary concludes from the available information that changed circumstances sufficient to warrant revocation or termination exist. The Department may revoke an order (in whole or in part), if the Secretary determines that: (i) producers accounting for substantially all of the production of the domestic like product to which the order (or the part of the order to be revoked) pertains have expressed a lack of interest in the relief provided by the order, in whole or in part, or (ii) if other changed circumstances sufficient to warrant revocation exist. 19 CFR 351.222(g)(1)(i); See also Certain Tin Mill Products From Japan: Final Results of Changed Circumstances Review, 66 FR 52109 (October 12, 2001) and 19 CFR 351.208(c). According to the record of this case, the following are all of the known U.S. producers of fresh Atlantic salmon: L.R. Enterprises, Heritage Salmon Inc., Maine Nordic Salmon, Stolt Sea Farms Inc., Cypress Island Inc., Atlantic Salmon of Maine, and Trumpet Island Salmon Farm Inc. Based upon the statement of no interest by the U.S. producers referenced above and the fact that the Department did not receive any comments during the comment periods following the initiation and preliminary results of this review, the Department hereby revokes this order for all entries of fresh Atlantic salmon from Chile that were entered, or withdrawn from warehouse, on or after July 1, 2001, the first day after the last completed administrative review in this proceeding, in accordance with sections 751(b) and (d) and 782(h) of the Act and 19 CFR 351.216.

Rescission of Antidumping Duty Administrative Review

On August 27, 2002, the Department published in the Federal Register (67 FR 55000) a notice of initiation of an administrative review for the period July 1, 2001, through June 30, 2002. As the result of the revocation of the order, the Department is rescinding the on-going administrative review of fresh Atlantic salmon from Chile pursuant to section 751(d)(3) of the Act.

Instructions to the Customs Service

In accordance with 19 CFR 351.222, the Department will instruct the U.S. Bureau of Customs and Border Protection (BCBP) to terminate the suspension of liquidation and to liquidate, without regard to antidumping duties, all unliquidated entries of fresh Atlantic salmon from Chile, entered, or withdrawn from warehouse, on or after July 1, 2001, which is the first day after the last completed review covering the 2001-2002 review period. The Department will further instruct the BCBP to refund with interest any estimated duties collected with respect to unliquidated entries of fresh Atlantic salmon from Chile entered, or withdrawn from warehouse, on or after July 1, 2001, in accordance with section 778 of the Act.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice of final results of antidumping duty changed circumstances review and revocation of the antidumping duty order are in accordance with sections 751(b) and (d), and 777(i) of the Act and 19 CFR 351.222(g). The 2001-2002 antidumping duty administrative review of fresh Atlantic salmon from Chile is rescinded in accordance with section 751(d)(3) of the Act.

Dated: July 21, 2003.
Joseph A. Spetrini,
Acting Assistant Secretary.

[FR Doc. 03-19022 Filed 7-24-03; 8:45 am]

BILLING CODE 3510-DS-S